DEPARTMENT OF COMMERCE

International Trade Administration

[C-570-946]

Final Results of Expedited Sunset Review of Countervailing Duty Order: Prestressed Concrete Steel Wire Strand From the People's Republic of China

AGENCY: Enforcement and Compliance, International Trade Administration, Department of Commerce.

SUMMARY: As a result of this second sunset review, the Department of Commerce (Commerce) finds that revocation of the countervailing duty (CVD) order on prestressed concrete steel wire strand (PC strand) from the People's Republic of China (China) would be likely to lead to continuation or recurrence of a countervailable subsidy at the level indicated in the “Final Results of Review” section of this notice.

DATES: Applicable December 31, 2020.

FOR FURTHER INFORMATION CONTACT: John Hoffner, AD/CVD Operations, Office III, Enforcement and Compliance, International Trade Administration, U.S. Department of Commerce, 1401 Constitution Avenue NW, Washington, DC 20230; telephone: (202) 482-3315.

SUPPLEMENTARY INFORMATION:

Background

On September 1, 2020, Commerce initiated a second sunset review of the Order ¹ pursuant to section 751(c)(2) of the Tariff Act of 1930, as amended (the Act) and 19 CFR 351.218(c).² On September 14, 2020, Commerce received a timely notification of intent to participate from Insteel Wire Products Company, Sumiden Wire Products Corporation, and Wire Mesh Corporation (collectively, domestic parties or the petitioners), filed in accordance with 19 CFR 351.218(d)(1)(i).³ On September 30, 2020, Commerce received a substantive response from the petitioners, timely filed in accordance with 19 CFR 351.218(d)(3)(i).⁴ Commerce did not receive a substantive response from the Government of China (GOC) or company respondent interested parties.

¹ See Pre-Stressed Concrete Steel Wire Strand from the People's Republic of China: Notice of Amended Final Affirmative Countervailing Duty Determination and Notice of Countervailing Duty Order, 75 FR 38977 (July 7, 2010) (Order).

² See Initiation of Five-Year “Sunset” Review, 85 FR 54343 (September 1, 2020).

³ See Domestic Parties' Letter, “Prestressed Concrete Steel Wire Strand from the People's Republic of China—Domestic Industry's Notice of Intent to Participate,” dated September 14, 2020.

⁴ See Domestic Parties' Letter, “Prestressed Concrete Steel Wire Strand from the People's Republic of China—Domestic Industry's Substantive Response,” dated September 30, 2020.

Pursuant to 19 CFR 351.218(e)(1)(ii)(C)(2) and section 751(c)(3)(B) of the Act, when there are inadequate responses from respondent interested parties, Commerce will conduct an expedited sunset review and, not later than 120 days after the date of publication in the Federal Register of the notice of initiation, issue final results of review based on the facts available. Commerce did not receive a substantive response from the GOC or any Chinese producers or exporters. Accordingly, we conducted an expedited (120-day) sunset review of the Order.⁵

⁵ See Commerce's Letter, “Sunset Reviews Initiated on September 1, 2020,” dated October 27, 2020.

Scope of the Order

The scope of the Order is PC strand. PC strand is steel wire strand, other than of stainless steel, which is suitable for use in, but not limited to, pre-stressed concrete (both pre-tensioned and post-tensioned) applications. The scope of the Order encompasses all types and diameters of PC strand whether uncoated (uncovered) or coated (covered) by any substance, including but not limited to, grease, plastic sheath, or epoxy. This merchandise includes, but is not limited to, PC strand produced to the American Society for Testing and Materials (ASTM) A-416 specification, or comparable domestic or foreign specifications. PC strand made from galvanized wire is excluded from the scope if the zinc and/or zinc oxide coating meets or exceeds the 0.40 oz./ft² standard set forth in ASTM-A-475.

The PC strand subject to the Order is currently classifiable under subheadings 7312.10.3010 and 7312.10.3012 of the Harmonized Tariff Schedule of the United States (HTSUS). Although the HTSUS subheadings are provided for convenience and customs purposes, the written description of the scope of the Order is dispositive.

Analysis of Comments Received

All issues raised in this review are addressed in the accompanying Issues and Decision Memorandum, which is hereby adopted by this notice.⁶ The Issues and Decision Memorandum is a public document and is on file electronically via Enforcement and Compliance's Antidumping and Countervailing Duty Centralized Electronic Service System (ACCESS). ACCESS is available to registered users at https://access.trade.gov. A list of topics discussed in the Issues and Decision Memorandum is included as an appendix to this notice. In addition, a complete version of the Issues and Decision Memorandum can be accessed at http://enforcement.trade.gov/frn/. The signed and the electronic versions of the Issues and Decision Memorandum are identical in content.

⁶ See Memorandum, “Issues and Decision Memorandum for the Final Results of the Expedited Second Sunset Review of the Countervailing Duty Order on Prestressed Concrete Steel Wire Strand from the People's Republic of China,” dated concurrently with, and hereby adopted by, this notice.

Final Results of Review

Pursuant to sections 752(b)(1) and (3) of the Act, Commerce finds that revocation of the Order would be likely to lead to continuation or recurrence of countervailable subsidies, at the following rates:

Producer/exporter | Net subsidy rate
Fasten Group Corporation (Fasten Corp.), Fasten Group Import & Export Co., Ltd. (Fasten I&E), Jiangyin Hongsheng Co. Ltd. (Hongsheng), Jiangyin Fasten Steel Products Co., Ltd. (Fasten Steel), Jiangyin Hongyu Metal Products Co., Ltd. (Hongyu Metal), and Jiangyin Walsin Steel Cable Co., Ltd. (Walsin) (Collectively, the Fasten Companies) | 9.42 percent ad valorem.
Xinhua Metal Products Company Ltd. (Xinhua), Xinyu Iron and Steel Joint Stock Limited Company (Xinyu), and Xingang Iron and Steel Joint Stock Limited Liability Company (Xingang) (Collectively the Xinhua Companies) | 45.85 percent ad valorem.
All Others | 27.64 percent ad valorem.

Notification Regarding Administrative Protective Order

This notice serves as the only reminder to parties subject to administrative protective order (APO) of their responsibility concerning the return or destruction of proprietary information disclosed under APO in accordance with 19 CFR 351.305. Timely notification of return/destruction of APO materials or conversion to judicial protective order is hereby requested. Failure to comply with the regulations and the terms of an APO is a sanctionable violation.

Notification to Interested Parties

We are issuing and publishing the results and notice in accordance with sections 751(c), 752, and 777(i)(1) of the Act and 19 CFR 351.218.

Dated: December 28, 2020.
Jeffrey I. Kessler,
Assistant Secretary for Enforcement and Compliance.

Appendix

List of Topics Discussed in the Issues and Decision Memorandum

I. Summary

II. Background

III. History of the Order

IV. Scope of the Order

V. Legal Framework

VI. Discussion of the Issues

1. Likelihood of Continuation or Recurrence of a Countervailable Subsidy

2. Net Countervailable Subsidy Likely to Prevail

3. Nature of the Subsidy

VII. Final Results of Review

VIII. Recommendation

[FR Doc. 2020-28984 Filed 12-30-20; 8:45 am]

BILLING CODE 3510-DS-P